DEPARTMENT OF DEFENSE

Department of the Army; Corps of Engineers

Cancellation of the Notice of Intent To Prepare a Supplemental Environmental Impact Statement to the Central and Southern Florida Project Comprehensive Review Study Integrated Feasibility Report and Programmatic Environmental Impact Statement on the Water Preserve Areas Feasibility Study

AGENCY: Department of the Army, U.S. Army Corps of Engineers, DOD.

ACTION: Notice; cancellation.

SUMMARY: The Jacksonville District, U.S. Army Corps of Engineers hereby cancels its notice of intent to prepare a Supplemental Environmental Impact Statement (SEIS) to the Central and Southern Florida Project (C&SF) Comprehensive Review Study Integrated Feasibility Report and Programmatic Environmental Impact Statement on the Water Preserve Areas (WPA) Feasibility Study, as published in the Federal Register, July 11, 2000 (64 FR 42681).

The cancellation is necessitated in order to resolve outstanding issues relating to the: (1) Plan Formulation Process—Programmatic Regulations; (2) Quantification of Plan Benefits; (3) Project Sequencing; (4) Water Supply/Savings Clause; and (5) Water Reservations and Allocations. Subsequently, the fourteen components comprising the WPA Feasibility Study and Special Project Implementation Report (SPIR) will be condensed into nine separate, stand-alone Project Implementation Reports (PIR), that will more effectively consider sequencing, project benefits, Water Resources Development Act 2000, and authorization.

Environmental documentation will be prepared and coordinated in conjunction with each of the proposed PIR actions. The public will be notified of forthcoming public hearing dates, location, time, and comment period expiration dates.

FOR FURTHER INFORMATION CONTACT: Questions can be forwarded to Mr. Brad Tarr, Environmental Branch, Planning Division, Jacksonville District, Corps of Engineers, Post Office Box 4970, Jacksonville, Florida 32232-0019, Phone: 904-232-3582.

SUPPLEMENTARY INFORMATION: None.

Dated: February 13, 2003.
James C. Duck,
Chief, Planning Division.

[FR Doc. 03-4786 Filed 2-27-03; 8:45 am]

BILLING CODE 3410-AJ-M